DEPARTMENT OF HOMELAND SECURITY

U.S. Customs and Border Protection

Accreditation of Coastal Gulf and International (Luling, LA), as a Commercial Laboratory

AGENCY: U.S. Customs and Border Protection, Department of Homeland Security.

ACTION: Notice of accreditation of Coastal Gulf and International (Luling, LA), as a commercial laboratory.

SUMMARY: Notice is hereby given, pursuant to CBP regulations, that Coastal Gulf and International (Luling, LA), has been accredited to test petroleum and certain petroleum products for customs purposes as of July 25, 2018.

DATES: Coastal Gulf and International (Luling, LA) was accredited, as a commercial laboratory as of July 25, 2018. The next triennial inspection date will be scheduled for July 2020.

FOR FURTHER INFORMATION CONTACT: Dr. Justin Shey, Laboratories and Scientific Services Directorate, U.S. Customs and Border Protection, 1300 Pennsylvania Avenue NW, Suite 1500N, Washington, DC 20229, tel. 202-344-1060.

SUPPLEMENTARY INFORMATION: Notice is hereby given pursuant to 19 CFR 151.12, that Coastal Gulf and International, 13615 River Road, Luling, LA 70070 has been accredited to test petroleum and certain petroleum products for customs purposes, in accordance with the provisions of 19 CFR 151.12.

Coastal Gulf and International is accredited for the following laboratory analysis procedures and methods for petroleum and certain petroleum products set forth by the U.S. Customs and Border Protection Laboratory Methods (CBPL) and American Society for Testing and Materials (ASTM):

CBPL No. | ASTM | Title
27-01 | D 287 | Standard Test Method for API Gravity of Crude Petroleum and Petroleum Products (Hydrometer Method).
27-02 | D 1298 | Standard Test Method for Density, Relative Density (Specific Gravity), or API Gravity of Crude Petroleum and Liquid Petroleum Products by Hydrometer Method.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: November 13, 2018.
Patricia Hawes Coleman,
Acting Executive Director, Laboratories and Scientific Services Directorate.

[FR Doc. 2018-25611 Filed 11-23-18; 8:45 am]

BILLING CODE 9111-14-P